ENVIRONMENTAL PROTECTION AGENCY

[ER-FRL-9002-1]

Environmental Impacts Statements; Notice of Availability

Responsible Agency: Office of Federal Activities, General Information (202) 564-7146 or http://www.epa.gov/compliance/nepa/.

Weekly receipt of Environmental Impact Statements Filed 03/05/2012 through 03/09/2012 pursuant to 40 CFR 1506.9.

Notice

Section 309(a) of the Clean Air Act requires that EPA make public its comments on EISs issued by other Federal agencies. EPA's comment letters on EISs are available at: http://www.epa.gov/compliance/nepa/eisdata.html.

EIS No. 20120062, Draft EIS, NPS, CO, Grand Ditch Breach Restoration, To Restore the Natural Hydrological Processes, Ecological Services and Wilderness Character of the Area in the Upper Kawuneeche Valley, Rocky Mountain National Park, Grand County, CO, Comment Period Ends: 05/25/2012, Contact: Ben Bobowski 970-586-1350.

EIS No. 20120063, Final EIS, USFS, OR, Wallowa-Whitman National Forest Travel Management Plan, Designate Roads Trails and Areas for Motor Vehicle User, Baker, Grant, Umatilla, Union and Wallowa Counties, OR, Review Period Ends: 04/16/2012, Contact: Cindy Christensen 541-962-8501.

EIS No. 20120064, Final EIS, USFS, MT, Cabin Gulch Vegetation Treatment Project, Restore Fire-Adapted Ecosystems, Existing and Desired Conditions, Townsend Ranger District, Helena National Forest, Broadwater County, MT, Review Period Ends: 04/16/2012, Contact: Sharon Scott 406-449-5201.

EIS No. 20120065, Final EIS, BLM, UT, Uinta Basin Natural Gas Development Project, To Develop Oil and Natural Gas Resources within the Monument Butte-Red Wash and West Tavaputs Exploration and Developments Area, Applications for Permit of Drill and Right-of-Way Grants, Uintah and Duchesne Counties, UT, Review Period Ends: 04/16/2012, Contact: Stephanie Howard 435-781-4469.

EIS No. 20120066, Draft EIS, USFWS, WA, Malheur National Wildlife Refuge Comprehensive Conservation Plan, Implementation, Harney County, WA, Comment Period Ends: 05/04/2012, Contact: Tim Bodeen 541-493-2612.

EIS No. 20120067, Final EIS, BIA, NV, K Road Moapa Solar Facility, Construction and Operation of a 350MW Solar Generation Facility, Approval of Right-of-Way Applications, Clark County, NV, Review Period Ends: 04/16/2012, Contact: Amy Heuslein 602-379-6570.

EIS No. 20120068, Final EIS, USCG, 00, Programmatic—Ballast Water Discharge Standard, Rulemaking for Standards for Living Organisms in Ships, U.S. Waters, Review Period Ends: 04/16/2012, Contact: Greg Kirkbride 202-372-1479.

Amended Notices

EIS No. 20120017, Draft EIS, FHWA, NY, Tappan Zee Hudson River Crossing Project, To Provide an Improved Hudson River Crossing between Rockland and Westchester Counties, Funding, USACE Section 10 and 404 Permits, Rockland and Westchester Counties, NY, Comment Period Ends: 03/30/2012, Contact: Jonathan D. McDade 518-431-4125; Revision to FR Notice Published 01/27/2012; Extending Comment Period from 03/15/2012 to 3/30/2012.

Dated: March 13, 2012.
Aimee Hessert,
Deputy Director, NEPA Compliance Division, Office of Federal Activities.

[FR Doc. 2012-6431 Filed 3-15-12; 8:45 am]

BILLING CODE 6560-50-P